DEPARTMENT OF COMMERCE

International Trade Administration

[A-570-504]

Notice of Extension of Time Limit for Preliminary Results of Antidumping Duty New Shipper Review: Petroleum Wax Candles From the People's Republic of China

AGENCY: Import Administration, International Trade Administration, Department of Commerce.

EFFECTIVE DATE: August 27, 2001.

FOR FURTHER INFORMATION CONTACT: Matthew Renkey or Abdelali Elouaradia, Office of AD/CVD Enforcement VII, Import Administration, International Trade Administration, U.S. Department of Commerce, 14th Street and Constitution Avenue, NW., Washington, DC 20230; telephone: (202) 482-2312 or (202) 482-1374, respectively.

The Applicable Statute

Unless otherwise indicated, all citations to the Tariff Act of 1930, as amended (the Act), are to the provisions effective January 1, 1995, the effective date of the amendments made to the Act by the Uruguay Round Agreements Act. In addition, unless otherwise indicated, all citations to the Department's regulations are to 19 CFR part 351 (2000).

Background

On February 28, 2001, and in accordance with section 751(a)(2)(B) of the Act and 19 CFR 351.214(c), the Department received a timely request from Shanghai New Star Im/Ex Co., Ltd. (Shanghai) for the initiation of a new shipper review of this antidumping duty order which has a February semiannual anniversary month. On March 14 and 16, 2001, Shanghai clarified in additional submissions that it had only one shipment during the period of review (POR) and that there have been no additional shipments of the subject merchandise to the United States, pursuant to 19 CFR 351.214(b)(2)(iv)(B). On March 28, 2001, the Department published its initiation of this new shipper review for the period August 1, 2000 through January 31, 2001 (66 FR 16903).

Extension of Time Limits for Preliminary Results

Due to the complexities of this case, including evaluating Shanghai's factors of production information, we find that the case is extraordinarily complicated and that we cannot make a preliminary determination by the current deadline of September 17, 2001. Therefore, in accordance with section 751(a)(2)(B)(iv) of the Act and section 351.214(i)(2) of the Department's regulations, the Department is extending the time period for issuing the preliminary results of this new shipper review by 120 days, until no later than January 15, 2002.

Dated: August 16, 2001.
Joseph A. Spertrini,
Deputy Assistant Secretary, AD/CVD Enforcement Group III.

[FR Doc. 01-21604 Filed 8-24-01; 8:45 am]

BILLING CODE 3510-DS-P